UNITED STATES AFRICAN DEVELOPMENT FOUNDATON

Resolution of the Board of Directors Appointment of USADF President

I. Pursuant to the authority granted to the Board of Directors of the United States African Development Foundation under 22 U.S.C. 290h-5(d), the Board of Directors hereby designates Edward “Ward” W. Brehm as President and Chief Executive Officer and to execute all powers delegated to the President and Chief Executive Officer, effective March 3, 2025.

II. This designation shall terminate only upon written revocation based upon a majority vote of a quorum of the Board of Directors.

III. This authority shall be exercised consistently with:

A. The USADF's authorizing legislation, 22 U.S.C. 290h, and all other applicable laws and regulations;

B. The USADF's Bylaws, and policy guidance issued by the Board of Directors; and

C. Other established USADF policies and procedures.

Signed by: John O. Agwunobi, Vice Chair of the USADF (on behalf of the Chair of the USADF), March 3, 2025.

Dated: March 3, 2025.
Wendy Carver,
Business Manager.

[FR Doc. 2025-03700 Filed 3-7-25; 8:45 am]

BILLING CODE P